DEPARTMENT OF TRANSPORTATION

Federal Railroad Administration

[Docket Number FRA-2021-0111]

Notice of Application for Approval of Discontinuance or Modification of a Railroad Signal System

Under part 235 of title 49 Code of Federal Regulations (CFR) and 49 U.S.C. 20502(a), this document provides the public notice that on December 20, 2021, CSX Transportation, Inc. (CSXT) petitioned the Federal Railroad Administration (FRA) seeking approval to discontinue or modify a signal system. FRA assigned the petition Docket Number FRA-2021-0111.

Applicant: CSXT— Carl A. Walker, Chief Engineer—Communication & Signals, 500 Water Street, Jacksonville, FL 32202

Specifically, CSXT requested approval to discontinue the cab signal system (CSS) on all tracks between CP Anacostia (mile post (MP) CFP-114.7) and CP Greendale (MP CFP-4.8) between Washington, DC, and Richmond, VA, on the RF&P subdivision. In a clarification letter dated March 30, 2022, CSXT describes the affected trackage to include (1) on the CSXT Capital subdivision in Washington, DC, the tracks include all tracks in both directions between and including CP Anacostia at MP CFP-114.7 to CP M Street at MP CFP-113.8; and (2) on the CSXT RF&P subdivision in Washington, DC, the tracks include all tracks in both directions between and including CP M Street at MP CFP-113.8, to the southbound absolute signals of CP Greendale at MP CFP-4.8 in Richmond, VA. CSXT states that affected railways Virginia Passenger Rail Authority, Virginia Railway Express, and Amtrak have concurred with the proposed change. In support of its request, CSXT states that implementation of the Interoperable Electronic Train Management System Positive Train Control system, without the CSS, will simplify the signal design and improve safety and efficiency of train operations.

A copy of the application, as well as any written communications concerning the application, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by May 27, 2022 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-07741 Filed 4-11-22; 8:45 am]

BILLING CODE 4910-06-P